DEPARTMENT OF TRANSPORTATION

Federal Motor Carrier Safety Administration

Electronic Logging Device Technical Specification Public Meeting

AGENCY: Federal Motor Carrier Safety Administration (FMCSA), DOT.

ACTION: Notice of public meeting.

SUMMARY: FMCSA announces a public meeting to discuss the technical specifications in Appendix A to Subpart B of part 395, Functional Specifications for All Electronic Logging Devices (ELDs), as published in the “Electronic Logging Devices and Hours of Service Supporting Documents” Final Rule (ELD Rule). This meeting will be a forum for discussion of the minimum requirements for ELDs and is being held to help manufacturers produce ELDs that will comply with the ELD Rule.

DATES: The public meeting will take place on Tuesday, May 9, 2017, from 9:30 a.m. to 1:30 p.m., Eastern Time (E.T.). A copy of the agenda for the meeting will be available in advance of the meeting at https://www.regonline.com/builder/site/?eventid=1953139.

ADDRESSES: The meeting will be held at the U.S. DOT Headquarters Building, 1200 New Jersey Avenue SE., Washington, DC 20590. Those interested in attending this public meeting must register at: https://www.regonline.com/builder/site/?eventid=1953139 by April 25, 2017. Attendees should arrive at the U.S. DOT Headquarters Building by 8:30 a.m. to allow sufficient time to clear security. FMCSA requests that questions be submitted in advance to ELD@dot.gov.

FOR FURTHER INFORMATION CONTACT: LaTonya Mimms, Transportation Specialist, Enforcement Division, FMCSA. Ms. Mimms may be reached at 202-366-0991 and by email at eld@dot.gov.

Services for Individuals with Disabilities: For information on facilities or services for individuals with disabilities or to request special assistance at the meeting, contact Ms. LaTonya Mimms at 202-366-0991 or by email at LaTonya.Mimms@dot.gov, by April 25, 2017.

SUPPLEMENTARY INFORMATION:

Background

On December 16, 2015, FMCSA published a final rule concerning ELDs (80 FR 78292). The final rule included detailed performance and design requirements for ELDs to ensure the devices produce accurate, tamper-resistant records with a uniform file format and consistent displays. The ELD technical specifications from the ELD Rule are codified in Appendix A to Subpart B of part 395 of Chapter 49 of the Code of Federal Regulations. ELD manufacturers are required to self-certify that their devices comply with the ELD Rule and register the devices with FMCSA. Motor carriers subject to the ELD Rule are required to operate registered ELDs by the compliance date of December 18, 2017. Motor carriers that operate with automatic onboard recording devices (AOBRDs) prior to December 18, 2017 and are subject to the ELD Rule, have until December 16, 2019 to transition from AOBRDs to ELDs. A list of self-certified and registered ELDs can be found at https://3pdp.fmcsa.dot.gov/ELD/ELDList.aspx.

Meeting Information

This meeting is intended to address questions received from ELD manufacturers and to review the required standardized output and standardized data sets. The meeting agenda is available on the registration site.

Issued on: March 27, 2017.
Daphne Y. Jefferson,
Deputy Administrator.

[FR Doc. 2017-06618 Filed 4-3-17; 8:45 am]

BILLING CODE 4910-EX-P